DEPARTMENT OF ENERGY

Federal Energy Regulatory Commission

[Docket No. EC02-68-000, et al.]

Progress Ventures, Inc., et al.; Electric Rate and Corporate Regulation Filings

May 13, 2002.

The following filings have been made with the Commission. The filings are listed in ascending order within each docket classification.

1. Progress Ventures, Inc., Progress, GenCo Ventures, LLC, Washington, County Power, LLC and Walton, County Power, LLC

[Docket No. EC02-68-000]

Take notice that on May 8, 2002, Progress Ventures, Inc. (Progress Ventures), Progress GenCo Ventures, LLC (Progress GenCo), Washington County Power, LLC (Washington) and Walton County Power, LLC (Walton) (collectively, Applicants), tendered for filing pursuant to Section 203 of the Federal Power Act and Part 33 of the Federal Energy Regulatory Commission's (Commission) regulations, a request for authorization and approval to engage in an internal restructuring whereby Progress Ventures transfers to Progress GenCo all of Progress Ventures' membership interest Washington and Walton.

Copies of the filing were served on the North Carolina Public Utilities Commission and the Georgia Public Service Commission.

Comment Date: June 3, 2002.

2. Duke Energy Moapa, LLC

[Docket No. EG02-134-000]

On May 8, 2002, Duke Energy Moapa, LLC (Duke Moapa) filed an application with the Federal Energy Regulatory Commission (the Commission) for determination of exempt wholesale generator status pursuant to Section 32 of the Public Utility Holding Company Act of 1935, as amended, and Part 365 of the Commission's regulations.

Duke Moapa is a Delaware limited liability company that will be engaged directly and exclusively in the business of operating all or part of one or more eligible facilities to be located in Clark County, Nevada. The eligible facilities will consist of an approximately 1,200 MW natural gas-fired, combined cycle electric generation plant and related interconnection facilities. The output of the eligible facilities will be sold at wholesale.

Comment Date: June 3, 2002.

3. Duke Electric Transmission

[Docket No. ER02-1745-000]

Take notice that on May 6, 2002, Duke Electric Transmission (Duke), a division of Duke Energy Corporation, tendered for filing a Service Agreement with Select Energy, Inc., for Firm Transmission Service under Duke's Open Access Transmission Tariff. Duke requests that the proposed Service Agreement be permitted to become effective on April 26, 2002. Duke states that this filing is in accordance with Part 35 of the Federal Energy Regulatory Commission's (Commission) Regulations.

A copy has been served on the North Carolina Utilities Commission. Comment Date: May 28, 2002.

4. Duke Electric Transmission

[Docket No. ER02-1746-000]

Take notice that on May 6, 2002, Duke Electric Transmission (Duke), a division of Duke Energy Corporation, tendered for filing a Service Agreement with Select Energy, Inc., for Non-Firm Transmission Service under Duke's Open Access Transmission Tariff. Duke requests that the proposed Service Agreement be permitted to become effective on April 25, 2002. Duke states that this filing is in accordance with Part 35 of the Federal Energy Regulatory Commission's (Commission) Regulations.

A copy has been served on the North Carolina Utilities Commission.

Comment Date: May 28, 2002.

5. Xcel Energy Services, Inc.

[Docket No. ER02-1750-000]

Take notice that on May 7, 2002 Xcel Energy Services, Inc. (XES), on behalf of Southwestern Public Service Company (SPS), submitted for filing a First Amendment to the Interconnection Agreement between SPS and West Texas Municipal Power Agency (WTMPA).

XES requests that this agreement become effective on July 8, 2002.

Comment Date: May 28, 2002.

6. Southern Company Services, Inc.

[Docket No. ER02-1751-000]

Take notice that on May 7, 2002, Southern Company Services, Inc., as agent for Alabama Power Company, Georgia Power Company, Gulf Power Company, Mississippi Power Company, and Savannah Electric and Power Company (“Southern Companies”) tendered for filing the Generator Balancing Service Agreement by and between Williams Energy Marketing & Trading Company (“Williams”) and Southern Companies (the “Service Agreement”) under Southern Companies” Generator Balancing Service Tariff (FERC Electric Tariff, First Revised Volume No. 9). The Service Agreement supplies Williams with unscheduled energy in connection with sales from Tenaska Alabama Partners, L.P.”s electric generating facility as a replacement for unintentional differences between the facility's actual metered generation and its scheduled generation. The Service Agreement (No. 7) is dated as of May 1, 2002, and shall terminate upon twelve months prior written notice of either party.

Comment Date: May 28, 2002.

7. Southern Company Services, Inc.

[Docket No. ER02-1752-000]

Take notice that on May 7, 2002, Southern Company Services, Inc., as agent for Alabama Power Company, Georgia Power Company, Gulf Power Company, Mississippi Power Company, and Savannah Electric and Power Company (Southern Companies) tendered for filing the Generator Balancing Service Agreement by and between Duke Energy Trading and Marketing, LLC (Duke Energy) and Southern Companies (the “Service Agreement”) under Southern Companies” Generator Balancing Service Tariff (FERC Electric Tariff, First Revised Volume No. 9). The Service Agreement supplies Duke Energy with unscheduled energy in connection with sales from Duke Energy Enterprise, LLC's electric generating facility as a replacement for unintentional differences between the facility's actual metered generation and its scheduled generation. The Service Agreement (No. 8) is dated as of May 2, 2002, and shall terminate upon twelve months prior written notice of either party.

Comment Date: May 28, 2002.

8. Wisconsin Public Service Corporation

[Docket No. ER02-1753-000]

Take notice that on May 7, 2002, Wisconsin Public Service Corporation (WPSC) tendered for filing a revised partial requirements service agreement with Upper Peninsula Power Company (UPPCO). Second Revised Service Agreement No. 11 provides UPPCO's contract demand nominations for January 2003—December 2003, under WPSC's W-2A partial requirements tariff.

The company states that copies of this filing have been served upon UPPCO and to the State Commissions where WPSC serves at retail.

Comment Date: May 28, 2002.

9. West Texas Utilities Company

[Docket No. ER02-1754-000]

Take notice that on May 7, 2002, West Texas Utilities Company (WTU) submitted for filing the Interconnection Agreement, dated January 1, 2000, between WTU and Coleman County Electric Cooperative, Inc. (Coleman) amended to include an additional point of interconnection to be established between the parties near Coleman's two new substations that will serve water pumping load near Lake Ivie in west Texas.

WTU seeks an effective date of August 1, 2002 for this point of interconnection.

WTU served copies of the filing on Coleman and the Public Utility Commission of Texas.

Comment Date: May 28, 2002.

10. New England Power Pool

[Docket No. ER02-1755-000]

Take notice that on May 7, 2002, the New England Power Pool (NEPOOL) Participants Committee filed for acceptance materials to permit NEPOOL to expand its membership to include the Robert E. McLaughlin Trust (Trust). The Participants Committee requests a May 7, 2002 effective date for the commencement of participation in NEPOOL by the Trust.

The Participants Committee states that copies of these materials were sent to the New England state governors and regulatory commissions and the Participants in NEPOOL.

Comment Date: May 28, 2002.

11. American Transmission Company LLC

[Docket No. ER02-1757-000]

Take notice that on May 7, 2002, American Transmission Company LLC (ATCLLC) tendered for filing a Generation-Transmission Interconnection Agreement between ATCLLC and Riverside Energy Center, LLC. ATCLLC requests an effective date of April 7, 2002.

Comment Date: May 28, 2002.

12. California Independent System Operator Corporation

[Docket No. ER02-1758-000]

Take notice that on May 7, 2002, the California Independent System Operator Corporation (ISO) filed First Revised Service Agreement No. 239 Under ISO Rate Schedule No. 1, which is a Participating Generator Agreement between the ISO and Green Power Partners I LLC (Green Power Partners). The ISO has revised the PGA to update the list of generating units listed in Schedule 1 of the PGA. The ISO requests an effective date for the filing of February 21, 2002.

The ISO has served copies of this filing upon Green Power Partners and all entities that are on the official service list for Docket No. ER99-3254-000.

Comment Date: May 28, 2002.

13. Dominion Energy Marketing, Inc.

[Docket No. ER02-1759-000]

Take notice that on May 7, 2002, Dominion Energy Marketing, Inc. (the Company) respectfully tendered for filing the following:

Service Agreement by Dominion Energy Marketing, Inc. to FirstEnergy Solutions Corp. designated as Service Agreement No 1 under the Company's Market-Based Sales Tariff, FERC Electric Tariff, Original Volume No. 1, effective on December 15, 2000. The Company requests an effective date of April 8, 2002, as requested by the customer.

Copies of the filing were served upon the FirstEnergy Solutions Corp., the Virginia State Corporation Commission, and the North Carolina Utilities Commission.

Comment Date: May 28, 2002.

14. Consumers Energy Company

[Docket No. ER02-1760-000]

Take notice that on May 7, 2002 Consumers Energy Company (Consumers) tendered for filing a Service Agreement with Northern States Power Company (Customer) under Consumers' FERC Electric Tariff No. 9 for Market Based Sales. Consumers requested that the Agreement be allowed to become effective as of May 3, 2002.

Copies of the filing were served upon the Customer and the Michigan Public Service Commission.

Comment Date: May 28, 2002.

15. Arizona Public Service Company

[Docket No ER02-1761-000]

Take notice that on May 7, 2002, Arizona Public Service Company (APS) filed the following with the Federal Energy Regulatory Commission: (1) Amended Lease Power Agreement between APS and ED-3, APS FERC First Revised Rate Schedule No. 12, to be effective as of March 1, 2002; (2) Amended Lease Power Agreement between APS and ED-1, APS FERC First Revised Rate Schedule No. 68, to be effective as of March 1, 2002; (3) Notice of Cancellation of Amended Lease Power Agreement between APS and ED-3, APS FERC First Revised Rate Schedule No. 12, to be effective upon sale of Sexton Substation by PWCC to ED-3; (4) Notice of Cancellation of Amended Lease Power Agreement between APS and ED-1, APS FERC First Revised Rate Schedule No. 68, to be effective upon sale of Sexton Substation by PWCC to ED-3; (5) Notice of Cancellation of Lease Agreement between APS and ED-1, pages 31 through 59 of APS FERC Rate Schedule No. 68, to be effective as of March 31, 2002; (6) Notice of Cancellation of Banking Agreement between APS and ED-3, APS Rate Schedule No. 106, to be effective upon sale of Sexton Substation by PWCC to ED-3; and (7) Notice of Cancellation of Banking Agreement between APS and ED-1, APS Rate Schedule No. 117, to be effective upon sale of Sexton Substation by PWCC to ED-3.

Comment Date: May 28, 2002.

16. Reliant Energy Solutions East, LLC

[Docket No. ER02-1762-000]

Take notice that on May 7, 2002, Reliant Energy Solutions East, LLC (RESE) petitioned the Federal Energy Regulatory Commission to grant certain blanket authorizations, to waive certain of the Commission's Regulations and to issue an order accepting RESE's FERC Electric Rate Schedule No. 1. RESE intends to engage in power marketing transactions, purchasing and reselling electricity and offering electric generation services including services designed to facilitate power trading, such as brokering of electricity, engaging in risk management transactions or arranging or providing related services. RESE does not own or control electric generating or transmission facilities or have any franchised electric service territories. RESE is a wholly owned subsidiary of Reliant Energy Retail Holdings, LLC that is in turn a wholly owned subsidiary of Reliant Resources, Inc. which is a wholly owned subsidiary of Reliant Energy, Incorporated.

Comment Date: May 28, 2002.

17. Holland Energy, LLC

[Docket No. ER02-1763-000]

Take notice that on May 7, 2002, Holland Energy, LLC (Holland) tendered for filing with the Federal Energy Regulatory Commission (Commission) an executed service agreement with Ameren Services Company designated as Service Agreement No. 1. under Holland's FERC Electric Tariff, Original Volume No. 1.

Holland respectfully requests an effective date of March 29, 2002.

Comment Date: May 28, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-12522 Filed 5-17-02; 8:45 am]

BILLING CODE 6717-01-P